DEPARTMENT OF AGRICULTURE

Forest Service

Eastern Arizona Counties Resource Advisory Committee

AGENCY: Forest Service, USDA.

ACTION: Notice of meeting.

SUMMARY: The Eastern Arizona Counties Resources Advisory Committee will meet in Globe, Arizona. The purpose of the meeting is to evaluate project proposals for possible funding in accordance with Public Law 106-393 (the Secure Rural Schools and Community Self-Determination Act).

DATES: The meeting will be held August 27, 2004 starting at 12:30 p.m.

ADDRESSES: The meeting will be held in the conference room at the Travelodge, 2119 West Highway 60, Globe, Arizona 85501. Send written comments to Robert Dyson, Eastern Arizona Counties Resource Advisory Committee, c/o Forest Service, USDA, P.O. Bos 640, Springerville, Arizona 85938 or electronically to rdyson@fs.fed.us.

FOR FURTHER INFORMATION CONTACT: Robert Dyson, Public Affairs Officer, Apache-Sitgreaves National Forests, (928) 333-4301.

SUPPLEMENTARY INFORMATION: The meeting is open to the public. Committee discussion is limited to Forest Service staff, project proponents, and Committee members. However, persons who wish to bring Public Law 106-393 related matters to the attention of the Committee may file written statements with the Committee staff before or after the meeting. Public input sessions will be provided and individuals who made written requests by August 15, 2004, will have the opportunity to address the Committee at those sessions.

Dated: July 19, 2004.
Elaine J. Zieroth,
Forest Supervisor, Apache-Sitgreaves National Forests.

[FR Doc. 04-17117 Filed 7-27-04; 8:45 am]

BILLING CODE 3410-11-M